FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR Part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The application also will be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States. Additional information on all bank holding companies may be obtained from the National Information Center website at www.ffiec.gov/nic/.

Unless otherwise noted, comments regarding each of these applications must be received at the Reserve Bank indicated or the offices of the Board of Governors not later than April 2, 2004.

A. Federal Reserve Bank of Boston (Richard Walker, Community Affairs Officer) 600 Atlantic Avenue, Boston, Massachusetts 02106-2204:

1. Seacoast Financial Services Corporation, New Bedford, Massachusetts; to acquire 100 percent of the voting shares of, and thereby merge with Abington Bancorp, Inc., Weymouth, Massachusetts, and thereby indirectly acquire voting shares of Abington Savings Bank, Abington, Massachusetts.

B. Federal Reserve Bank of Richmond (A. Linwood Gill, III, Vice President) 701 East Byrd Street, Richmond, Virginia 23261-4528:

1. Capital One Financial Corporation, McLean, Virginia; to become a bank holding company by acquiring 100 percent of the voting shares of Capital One Bank, Glen Allen, Virginia.

In connection with this application, Applicant also has applied to acquire Capital One, F.S.B., McLean, Virginia, and thereby engage in operating a federal savings association, pursuant to section 225.28(b)(4)(ii) of Regulation Y; and thereby indirectly acquire Capital One Auto Finance, Inc., Plano, Texas, and thereby engage in automobile financing, including direct loans and sales finance contracts, and in servicing of those loans, pursuant to section 225.28(b)(1) of Regulation Y; North Hill Advisors, Inc., Boston, Massachusetts, and thereby engage in providing investment management and advisory services, pursuant to section 225.28(b)(6)(i) of Regulation Y; New Moon, LLC, Plano, Texas, and thereby engage in facilitating sales of motor vehicle receivables to third parties, pursuant to section 225.28(b)(1) of Regulation Y; The Westmoreland Agency, Inc., Boise, Idaho, and thereby engage in debt collection, pursuant to section 225.28(b)(2)(iv) of Regulation Y; AmeriFee LLC, Southboro, Massachusetts, and thereby engage in consumer finance activities, pursuant to section 225.28(b)(1) of Regulation Y; COSI Receivables Management, Inc., McLean, Virginia, and thereby engage in holding liquidating balances of consumer installment loan receivables, pursuant to section 225.28(b)(1) of Regulation Y; and Community Historic Credit Fund V Limited Partnership, Raleigh, North Carolina, and thereby engage in making investments in entities that own or lease properties eligible to claim federal historic tax credits, pursuant to section 225.28(b)(12)(i) of Regulation Y.

Board of Governors of the Federal Reserve System, March 3, 2004.
Robert deV. Frierson,
Deputy Secretary of the Board.

[FR Doc. 04-5249 Filed 3-8-04; 8:45 am]

BILLING CODE 6210-01-S